DEPARTMENT OF THE INTERIOR

Fish and Wildlife Service

[FWS-R6-NWRS-2022-N221; FF06R0ZS00-FXRS12610600000-223]

Intent To Prepare a Comprehensive Conservation Plan for Units of Charles M. Russell Complex, Montana

AGENCY: Fish and Wildlife Service, Interior.

ACTION: Notice of intent; request for comments.

SUMMARY: We, the U.S. Fish and Wildlife Service (Service), intend to gather information necessary to reinitiate the process of developing a comprehensive conservation plan (CCP) for certain refuge, wetland management district, and waterfowl production area units of the Charles M. Russell Complex in south-central Montana. We are publishing this notice in compliance with Service Refuge Planning policy to advise other Federal and State agencies, Tribes, and the public of our intentions and to obtain suggestions and information on the scope of issues to be considered in the planning process.

DATES: To ensure consideration, we must receive written comments by July 29, 2022.

ADDRESSES: Please submit comments and questions by one of the following methods:

• Email: Alice Lee, via email at alice_lee@fws.gov; or

• U.S. mail: Alice Lee, Conservation Planner, via mail at Branch of Refuge Planning, P.O. Box 25486, Denver Federal Center, Denver, CO 80225.

For more information, please see Public Comment Process in the SUPPLEMENTARY INFORMATION section.

FOR FURTHER INFORMATION CONTACT: Alice Lee, Conservation Planner, by phone at 720-601-1821 or via email at alice_lee@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: With this notice, we, the U.S. Fish and Wildlife Service (Service), reinitiate the process of developing a comprehensive conservation plan (CCP) for the following units of the Charles M. Russell Complex in south central Montana: Charles M. Russell Wetland Management District (WMD), Hailstone Waterfowl Production Area (WPA) and National Wildlife Refuge (NWR), Grass Lake NWR, Lake Mason NWR, and War Horse NWR. The headquarters for all units in the complex is located in Lewistown, Montana.

We began scoping activities in 2016 for development of the CCP; however, in 2017, CCP development was placed on hold because of changing agency priorities.

Background

The CCP Process

The National Wildlife Refuge System Administration Act of 1966 (16 U.S.C. 668dd-668ee; Administration Act), as amended by the National Wildlife Refuge System Improvement Act of 1997, requires us to develop a CCP for each unit of the National Wildlife Refuge System (NWRS). The purpose for developing a CCP is to provide refuge managers with a 15-year plan for achieving refuge purposes and contributing toward the mission of the NWRS, consistent with sound principles of fish and wildlife management, conservation, legal mandates, and our policies. In addition to outlining broad management direction on conserving wildlife and their habitats, CCPs identify compatible wildlife-dependent recreational opportunities available to the public, including, where appropriate, opportunities for hunting, fishing, wildlife observation and photography, and environmental education and interpretation. We will review and update the CCPs at least every 15 years in accordance with the Administration Act.

Each unit of the NWRS was established for specific purposes. We use these purposes as the foundation for developing and prioritizing the management goals and objectives for each unit within the NWRS, and to determine how the public can use each refuge. The planning process is a way for us and the public to evaluate management goals and objectives that will ensure the best possible approach to wildlife, plant, and habitat conservation, while providing for wildlife-dependent recreation opportunities that are compatible with each refuge unit's establishing purposes and the mission of the NWRS.

Our CCP process provides participation opportunities for Tribal, State, and local governments; agencies; organizations; and the public. At this time, we encourage input in the form of issues, concerns, ideas, and suggestions for the future management of the Charles M. Russell WMD, Hailstone WPA and NWR, Grass Lake NWR, Lake Mason NWR, and Warhorse NWR. Only the aforementioned units of the Charles M. Russell Complex are covered by this CCP process. The CCP for the Charles M. Russell NWR has been completed, and we are not seeking public input for the management of Charles M. Russell NWR at this time.

National Environmental Policy Act

We will conduct the environmental review of this project in accordance with the requirements of the National Environmental Policy Act of 1969, as amended (42 U.S.C. 4321 et seq.; NEPA); NEPA regulations (40 CFR parts 1500-1508 and 43 CFR part 46); other appropriate Federal laws and regulations; and our policies and procedures for compliance with those laws and regulations.

Units Under Scoping

Charles M. Russell Wetland Management District (WMD)

The Charles M. Russell WMD is located in south-central Montana and includes parts of five counties: Golden Valley, Musselshell, Petroleum, Stillwater, and Yellowstone. The WMD includes three WPAs and several types of easements. The Clark's Fork WPA is a 271-acre (ac) tract of land located along the Clarks Fork of the Yellowstone River. Spidel WPA is a 1,246-ac tract of land located nearly 3 miles northeast of Broadview, Montana. The Tew WPA is 692 ac, and is located 15 miles northeast of Broadview in Musselshell County. Additional information about these WPAs is available at https://www.fws.gov/refuge/charles-m-russell-wetland-management-district.

Hailstone Waterfowl Production Area and National Wildlife Refuge

Hailstone WPA and NWR were established primarily as breeding grounds for waterfowl and other wildlife. The Service purchased 1,988 ac of easement in 1979 to create the Hailstone WPA. Hailstone WPA and NWR are part of the Lake Basin area and are managed as a flowage and refuge easement. The current size of the flowage easement at Hailstone is 760 ac.

Grass Lake National Wildlife Refuge

Grass Lake NWR is a 4,318-ac refuge that is one of the most productive migratory bird areas in central Montana. This Refuge is currently closed to all public uses.

Lake Mason National Wildlife Refuge

Lake Mason NWR consists of three separate tracts of land in central Montana: the Lake Mason Unit, Willow Creek Unit, and North Unit. With the exception of the northern half of the Lake Mason Unit, the refuge is open to hunting of migratory game birds, upland game birds, and big game, as well as hiking and wildlife observation. The northern half of the Lake Mason Unit is closed to all public access, in order to increase the security and attractiveness of this area to migratory birds.

Warhorse National Wildlife Refuge

War Horse NWR consists of three separate land units: Wild Horse, 440 ac; War Horse, 1,152 ac; and Yellow Water, 1,640 ac. War Horse NWR was established in 1958 as a “refuge and breeding ground for migratory birds and other wildlife” through a transfer of lands by the authority of the Bankhead-Jones Farm Tenant Act. More information on the above NWRs can be found at https://www.fws.gov/refuge/charles-m-russell.

Public Comment Process

We have considered comments received in response to our previous scoping activities. With this notice, we respectfully request comments that may contain information not previously provided. You may send comments any time during the planning process by mail or email (see ADDRESSES). There will be additional opportunities for the public to provide input once we have prepared a draft CCP.

All information provided voluntarily by mail, by phone, or at public meetings (e.g., names, addresses, letters of comment, input recorded during meetings) becomes part of the official public record. Before submitting comments that include your address or other personal identifying information, you should be aware that your entire comment, including your personal identifying information, may be made publicly available at any time. If requested under the Freedom of Information Act by a private citizen or organization, the Service may provide copies of such information. While you may ask us in your comment to withhold your personal identifying information from public review, we cannot guarantee that we will be able to do so.

Anna Munoz,
Deputy Regional Director, Mountain-Prairie Region.

[FR Doc. 2022-13848 Filed 6-28-22; 8:45 am]

BILLING CODE 4333-15-P